DEPARTMENT OF THE INTERIOR

Bureau of Land Management

[L51010000.ER0000.LVRWB19B6670.LLCAD01000.19X (MO #4500161985)]

Notice of Intent to Prepare an Environmental Impact Statement for the Proposed Ivanpah-Control Project, Inyo, Kern, and San Bernardino Counties, CA

AGENCY: Bureau of Land Management, Interior.

ACTION: Notice of intent.

SUMMARY: In compliance with the National Environmental Policy Act of 1969, as amended (NEPA), and the Federal Land Policy and Management Act of 1976, as amended (FLPMA), the Bureau of Land Management (BLM) California Desert District Office, Palm Springs, California, intends to prepare an Environmental Impact Statement (EIS) to consider the effects of the Ivanpah-Control Project (Project) and by this notice is announcing the beginning of the scoping process to solicit public comments and identify issues.

DATES: This notice initiates the public scoping process for the EIS. The BLM requests comments concerning the scope of the analysis and identification of relevant information and studies by January 3, 2023. To afford the BLM the opportunity to consider comments in the Draft EIS, please ensure your comments are received prior to the close of the 45-day scoping period or 15 days after the last public meeting, whichever is later. The BLM will hold public scoping meetings; the dates, locations, and times will be announced at least 15 days in advance through public notices, media releases, mailings, and the BLM website at: https://bit.ly/3knv8cm.

ADDRESSES: You may submit comments related to the Ivanpah-Control Project by any of the following methods:

• Website: https://bit.ly/3knv8cm.

• Email: BLM_CA_CD_TLRR_IvanpahControl@blm.gov.

• Fax: 760-833-7199.

• Mail: Ivanpah-Control Environmental Impact Statement, Bureau of Land Management California Desert District Office, 1201 Bird Center Drive, Palm Springs CA 92262.

Documents pertinent to this proposal may be examined online at https://bit.ly/3knv8cm and at the BLM California Desert District Office.

FOR FURTHER INFORMATION CONTACT: Joan Patrovsky, Project Manager, Ivanpah-Control Project, telephone: (760) 252-6032; address: Bureau of Land Management California Desert District Office, 1201 Bird Center Drive, Palm Springs CA 9226; email: jpatrovs@blm.gov. Contact Ms. Patrovsky to have your name added to our mailing list. Individuals in the United States who are deaf, deafblind, hard of hearing, or have a speech disability may dial 711 (TTY, TDD, or TeleBraille) to access telecommunications relay services for contacting Ms. Patrovsky. Individuals outside the United States should use the relay services offered within their country to make international calls to the point-of-contact in the United States.

SUPPLEMENTARY INFORMATION:

Purpose and Need for the Proposed Action

The purpose of this Federal action is to respond to a right-of-way application from Southern California Edison for demolition, construction, operations, and maintenance of the Ivanpah-Control 115 kilovolt transmission line on BLM-administered lands, consistent with applicable laws, regulations, and policies. The Secretary of the Interior is authorized to grant rights-of-way on public lands for systems for generation, transmission, and distribution of electric energy (43 U.S.C. Section 1761(a)(4)); the need for the BLM's action is established by this delegated authority under Title V of FLPMA.

The applicant is Southern California Edison and the purpose for the Project is to ensure compliance with the California Public Utilities Commission's General Order 95 and National Electric Reliability Corporation reliability standards. The proposed action is to implement engineering solutions to remediate approximately 2,950 discrepancies along the Ivanpah-Control alignment, continue to provide safe and reliable electrical service, meet Project needs while minimizing environmental impacts, and design and construct the physical components of the Project in conformance with industry and/or Southern California Edison's approved engineering, design, and construction standards for substation and subtransmission system projects.

Preliminary Proposed Action and Alternatives

Southern California Edison proposes to remediate physical clearance discrepancies on existing 115 kilovolt subtransmission lines, referred to collectively as the Ivanpah-Control transmission line, located in southern California. The Project is composed of five segments (1, 2, 3N, 3S, and 4) spanning Inyo County, northeast Kern County, and northern San Bernardino County. The northern/western terminus is the Control Substation, approximately 5 miles west of the city of Bishop in Inyo County; the eastern terminus is at Ivanpah Substation, located in California approximately 6 miles southwest of Primm, Nevada. To address the discrepancies, Southern California Edison proposes to conduct the following activities:

• Segment 1: Control Substation (Bishop) to Inyokern Substation (126-mile segment): The subtransmission lines would be rebuilt in a new alignment adjacent to the existing alignment (but outside the existing right-of-way) and the existing subtransmission structures would be removed. This would involve removing approximately 1,161 existing structures and replacing with 905 new structures.

• Segment 2: Inyokern Substation to Kramer Junction (48-mile segment): The subtransmission line would be rebuilt in a new alignment adjacent to the existing alignment (but within the existing right-of-way) and the existing subtransmission structures would be removed. This would involve removing approximately 390 transmission structures and installing 342 new structures.

• Segment 3N: Kramer Junction-Coolwater Substation (44-mile segment): The subtransmission line would be reconductored. Some existing subtransmission structures would be replaced with steel and wood H-frames and wood pole multipole structures; most replacement structures would be installed proximate to existing structures that would be removed. This would involve removing approximately 43 existing structures and installing approximately 45 structures.

• Segment 3S: Kramer Junction-Tortilla Substation-Coolwater Substation (44-mile segment): The subtransmission line would be reconductored. Some existing subtransmission structures would be replaced with tubular steel pole and wood multipole structures, and steel and wood H-frames; replacement structures would be installed proximate to existing structures which would be removed. This would involve removing approximately 42 existing structures and installing approximately 42 structures.

• Segment 4: Coolwater Substation to Ivanpah Substation (98-mile segment): The existing subtransmission circuit would be derated, which would remediate some existing discrepancies with no physical modification to the facilities. To remediate the remaining discrepancies, some existing subtransmission structures would be replaced with steel and wood H-frames; these replacement structures would mostly be installed proximate to existing structures which would be removed. This would involve removing approximately 60 structures, installing approximately 62 structures, and modifying approximately 83 structures.

A range of reasonable alternatives will be developed and analyzed in the EIS after considering information received during the scoping period. Preliminary action alternatives include a full rebuild in segments 3N, 3S, and 4 and the use of different pole designs in portions of segments 1 and 2. The range of reasonable alternatives will include a no action alternative, under which the BLM would deny the application and the Ivanpah-Control line would remain as existing with ongoing maintenance activities as needed. The BLM welcomes comments on all preliminary alternatives as well as suggestions for additional alternatives. As alternatives should resolve a problem with the Proposed Action, please indicate the purpose of any suggested alternative.

Summary of Expected Impacts

Preliminary issues, either beneficial or adverse and of varying intensity, for the Project have been identified by BLM personnel and in consultation with Federal, State, and local agencies, Tribes, and other Cooperating Agencies. These preliminary issues include potential impacts to:

• Special status wildlife and vegetation species;

• Visual resources;

• Cultural resources; and

• Areas of Critical Environmental Concern

The public scoping process will guide determination of relevant issues that will influence the scope of the environmental analysis, including alternatives and mitigation measures. The EIS will identify and describe the effects of the Proposed Action and alternatives on the human environment. The BLM also requests the identification of potential impacts that should be analyzed. Impacts should be a result of the action; therefore, please identify the activity along with the potential impact.

Anticipated Permits and Authorizations

In addition to the requested right-of-way grant, other Federal, State, and local authorizations will be required for the Project. These include authorizations under the Bald and Golden Eagle Protection Act, the Endangered Species Act, Clean Water Act, 14 CFR part 77, and other laws and regulations determined to be applicable to the Project.

Schedule for the Decision-Making Process

The BLM will provide additional opportunities for public participation consistent with the NEPA process, including a 45-day comment period on the Draft EIS. The Draft EIS is anticipated to be available for public review in Fall 2023 and the Final EIS is anticipated to be released in Summer 2024 with a Record of Decision in Summer/Fall 2024.

Public Scoping Process

This notice of intent initiates the scoping period. The BLM will be holding at least two virtual public scoping meetings. The specific date(s) and location(s) of these scoping meetings will be announced at least 15 days in advance through public notices, media releases, mailings, and the BLM website above.

Lead and Cooperating Agencies

The BLM is the lead Federal agency for this EIS and the related National Historic Preservation Act Section 106 process. The following have agreed to participate in the environmental analysis of the Project as Cooperating Agencies: Inyo County, Los Angeles Department of Water and Power, United States Fish and Wildlife Service, National Park Service, United States Army Corps of Engineers, United States Environmental Protection Agency, Fort Irwin National Training Center, Marine Corps Logistics Base Barstow, Edwards Air Force Base, and Naval Air Weapons Station China Lake. Twenty-eight entities declined or did not respond to the BLM's offer to participate in the Project as a Cooperating Agency. Federal, State, and local agencies, Tribes, and stakeholders interested in the scoping process may request or be requested by the BLM, if eligible, to participate in the development of the EIS as a Cooperating Agency.

Responsible Official

The BLM California State Director is the responsible official who will make the decisions below.

Nature of Decision to Be Made

The BLM will use the analysis in the EIS to inform the following: whether to grant, grant with conditions, or deny the application for a right-of-way. Pursuant to 43 CFR 2805.10, if the BLM issues a grant, the BLM decision maker may include terms, conditions, and stipulations determined to be in the public interest.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation, and may be considered at multiple scales, including the landscape scale.

The BLM will utilize and coordinate the NEPA process to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and stakeholders that may be interested in or affected by the proposed Ivanpah-Control Project that the BLM is evaluating, are invited to participate in the scoping process and, if eligible, may request or be requested by the BLM to participate in the development of the environmental analysis as a cooperating agency. The BLM has sent invitations to potentially affected Tribal Nations and initiated government-to-government consultation meetings and intends to continue coordination throughout the NEPA process.

The Project is in conformance with the California Desert Conservation Area Plan as amended and would not require any plan amendments. The Ivanpah-Control transmission lines are within west-wide energy corridors (established under Section 368 of the Energy Policy Act of 2005), including corridor numbers 23-25, which BLM anticipates reviewing in an upcoming revision. The Project is not in conflict with nor would it require the revision of any existing or proposed west-wide energy corridors.

Before including your address, phone number, email address, or other personal identifying information in your comment, you should be aware that your entire comment—including your personal identifying information—may be made publicly available at any time. While you can ask us in your comment to withhold your personal identifying information from public review, we cannot guarantee that we will be able to do so.

(Authority: 40 CFR 1501.9).

Karen Mouritsen,
Bureau of Land Management California State Director.

[FR Doc. 2022-25168 Filed 11-17-22; 8:45 am]

BILLING CODE 4310-40-P